ENVIRONMENTAL PROTECTION AGENCY

40 CFR Part 52

Approval and Promulgation of Implementation Plans

CFR Correction

In Title 40 of the Code of Federal Regulations, Part 52 (§§ 52.01 to 52.1018), revised as of July 1, 2014, on page 49, in § 52.21, paragraph (aa)(10)(v) is reinstated to read as follows:

§ 52.21 Prevention of significant deterioration of air quality.

* * * * *

(aa) * * *

(10) * * *

(v) If the compliance date for a State or Federal requirement that applies to the PAL source occurs during the PAL effective period, and if the Administrator has not already adjusted for such requirement, the PAL shall be adjusted at the time of PAL permit renewal or title V permit renewal, whichever occurs first.

* * * * *

[FR Doc. 2015-14398 Filed 6-11-15; 8:45 am]

BILLING CODE 1505-01-D